DEPARTMENT OF COMMERCE

Foreign-Trade Zones Board

[Docket 23-2001]

Foreign-Trade Zone 29—Louisville, KY, Area; Application for Expansion

An application has been submitted to the Foreign-Trade Zones (FTZ) Board (the Board) by the Louisville and Jefferson County Riverport Authority, grantee of Foreign-Trade Zone 29, requesting authority to expand FTZ 29, Louisville, Kentucky, adjacent to the Louisville Customs port of entry. The application was submitted pursuant to the provisions of the Foreign-Trade Zones Act, as amended (19 U.S.C. 81a-81u), and the regulations of the Board (15 CFR Part 400). It was formally filed on June 7, 2001.

FTZ 29 was approved on May 26, 1977 (Board Order 118, 42 FR 29323, 6/8/77), and expanded on January 31, 1989 (Board Order 429, 54 FR 5992, 2/7/89); December 15, 1997 (Board Order 941, 62 FR 67044, 12/23/97); July 17, 1998 (Board Order 995, 63 FR 40878, 7/31/98); and December 11, 2000 (Board Order 1133, 65 FR 79802, 12/20/00). The zone project currently consists of five sites in the Louisville, Kentucky area: Site 1 (1,675 acres)—located within the Riverport Industrial Complex; Site 2 (593 acres)—located at the junction of Gene Snyder Freeway and La Grange Road in eastern Jefferson County; Site 3 (142 acres)—U.S. Navy Ordnance Facility, 5403 Southside Drive, Louisville; Site 4 (2,311 acres)—Louisville International Airport and three airport-related parcels; and, Site 5 (70 acres)—the Ashland Inc. Tank Farm and pipelines, 4510 Algonquin Parkway, Louisville, which supplies part of the airport's fuel system.

The applicant is now requesting authority to expand the general-purpose zone to include an additional site (316 acres) in Bullitt County: Proposed Site 6 (316 acres)—Cedar Grove Business Park, on Highway 480, near Interstate 65, Bullitt County. The site is owned by the Salt River Development Company, LLC. No specific manufacturing authority is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is August 14, 2001. Rebuttal comments in response to material submitted during the foregoing period may be submitted during the subsequent 15-day period (to August 29, 2001).

A copy of the application and accompanying exhibits will be available during this time for public inspection at each of the following locations:

U.S. Department of Commerce, Export Assistance Center, 601 W. Broadway, Room 634B, Louisville, Kentucky 40202

Office of the Executive Secretary, Foreign-Trade Zone Board, Room 4008, U.S. Department of Commerce, 14th & Pennsylvania Avenue, N.W., Washington, DC 20230

Dated: June 7, 2001.
Dennis Puccinelli,
Executive Secretary.

[FR Doc. 01-15075 Filed 6-14-01; 8:45 am]

BILLING CODE 3510-DS-P